DEPARTMENT OF TRANSPORTATION

Maritime Administration

[Docket No. MARAD-2001-10456]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before October 23, 2001.

FOR FURTHER INFORMATION CONTACT: Philip Budwick, Maritime Administration, MAR 226, 400 Seventh Street, SW., Washington, DC 20590. Telephone: 202-366-5167 or FAX: 202-366-7485. Copies of this collection can also be obtained from that office.

SUPPLEMENTARY INFORMATION: Title of Collection: Requirements for Establishing U.S. Citizenship.

Type of Request: Extension of currently approved information collection.

OMB Control Number: 2133-0012.

Form Numbers: Special Format.

Expiration Date of Approval: March 31, 2002.

Summary of Collection of Information: In accordance with the Merchant Marine Act, 1936, participants in the various programs offered by the Maritime Administration (MARAD) must be citizens of the United States within the meaning of Section 2 of the Shipping Act, 1916, as amended. In addition, the participants in the programs must file annually an affidavit with MARAD attesting to their continuing citizenship.

Need and Use of the Information: MARAD will review the Affidavits of U.S. Citizenship to determine if the applicants are eligible to participate in the programs offered by agency.

Annual Responses: 300.

Annual Burden: 1,500 hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT, Monday through Friday, except Federal Holidays. An electronic version of this document is available on the World Wide Web at http://dms.dot.gov.

Dated: August 20, 2001.
By order of the Maritime Administrator.
Joel C. Richard,
Secretary.

[FR Doc. 01-21463 Filed 8-23-01; 8:45 am]

BILLING CODE 4910-81-P